ENVIRONMENTAL PROTECTION AGENCY

[FRL-6993-3]

Agency Announcement of Information Collection Activities: Submission for OMB Review; Comment Request; Collection of 2000 Aquatic Animal Production Industry Data (EPA ICR 1988.01)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: “Collection of 2000 Aquatic Animal Production Industry Data” (EPA ICR No. 1988.01). The ICR supporting statement describes the nature of the information collection and its expected burden and cost; where appropriate, it includes the actual data collection instruments.

DATES: Comments must be submitted on or before July 9, 2001.

ADDRESSES: Send comments, referencing EPA ICR No. 1988.01, to the following addresses: Sandy Farmer, US Environmental Protection Agency, Collection Strategies Division (Mail Code 2822), 1200 Pennsylvania Avenue, NW., Washington, DC 20460; and to the Office of Information and Regulatory Affairs, Office of Management and Budget (OMB), Attention: Desk Officer for EPA, 725 17th St., NW., Washington, DC 20503.

FOR FURTHER INFORMATION CONTACT: For a copy of the ICR contact Sandy Farmer at EPA by phone at (202) 260-2740 or e-mail at farmer.sandy@epa.gov, or download a copy off the Internet at http://www.epa.gov/icr and refer to EPA ICR No. 1988.01. For technical questions about the ICR, contact Marta Jordan by phone at (202) 260-0817 or by e-mail at jordan.marta@epa.gov. For economic questions about the ICR, contact Kristen Strellec by phone at (202) 260-6036 or by e-mail at strellec.kristen@epa.gov.

SUPPLEMENTARY INFORMATION: Title: Collection of 2000 Aquatic Animal Production Industry Data (EPA ICR No.1988.01). This is a new collection.

Abstract: EPA is planning to survey aquatic animal production facilities to collect the technical and economic information EPA will need to develop effluent limitations guidelines and standards. Currently, no nationally applicable effluent limitations guidelines and standards exist to regulate discharges from facilities in this point source category. EPA is developing proposed effluent regulations for this category due, in part, to the concern that excess nutrients and other chemicals may be entering the Nation's waters from animal production and feeding operations (both aquatic and land based).

EPA is required by section 304(m) of the Clean Water Act, 33 U.S.C. 1314(m), to identify categories of sources that discharge pollutants and to establish a schedule for establishing effluent limitations guidelines for these categories. EPA is also required by the terms of a Consent Decree with the Natural Resources Defense Council, Inc. (NRDC) to propose effluent limitations guidelines and standards for the aquatic animal production point source category. NRDC v. EPA, (D.D.C. Civ. No. 89-2980, January 31, 1992, as modified). EPA is conducting the surveys to collect the information EPA needs to respond to these legislative and judicial requirements.

The Collection of 2000 Aquatic Animal Production Industry Data is intended to collect, from industry, the type of technical and economic information required by EPA to develop effluent limitations guidelines and pretreatment standards. The surveys cover aquatic animal production activities for both the private and public sector. EPA will issue the survey instruments under authority of section 308 of the Clean Water Act, 33 U.S.C. 1318. Responses from survey recipients will be mandatory. EPA will mail the survey instruments to aquatic animal producers after OMB approves the ICR. Respondents will have the right to claim information as confidential business information. An Agency may not conduct or sponsor, and a person is not required to respond to, an information collection unless it displays a currently valid OMB control number. The OMB control numbers for EPA's regulations are listed in 40 CFR part 9 and 48 CFR Chapter 15. The Federal Register document required under 5 CFR 1320.8(d) soliciting comments on this collection of information was published on September 14, 2000 (65 FR 55522).

Burden Statement: The data collection consists of 4 elements: the screener survey, a detailed survey, a follow-up collection of existing wastewater sampling data from a sample of the detailed questionnaire respondents, and a follow-up collection of economic information on multi-facility companies as necessary. The screener survey will help to identify basic information on all of the facilities EPA has identified, and will help EPA develop a more accurate mailing list and representative sampling frame for the detailed survey. The detailed survey will help EPA obtain from a representative sample of facilities more detailed information about facilities within the various industry sectors. The follow-up activities will allow EPA to obtain the additional information discussed above. The total nationwide public reporting and record keeping burden for this information collection is estimated to be 24,840 hours (5,000 hours for the screener survey; 19,565 hours for the detailed survey; and 275 for the follow-up activities). Burden means the total time, effort, or financial resources expended by persons to generate, maintain, retain, or disclose or provide information to or for a Federal agency. This includes the time needed to review instructions; to develop, acquire, install, and utilize technology and systems for the purposes of collecting, validating, and verifying information, processing and maintaining information, and disclosing and providing information; to adjust the existing ways to comply with any previously applicable instructions and requirements; to train personnel to be able to respond to a collection of information; to search data sources; to complete and review the collection of information; and to transmit or otherwise disclose the information.

Table 1.—Respondent Average Burden per Survey Response Activity
Respondent activity | Total burden per activity (hours): Survey: Screener | Total burden per activity (hours): Survey: Detailed \1\ | Total burden per activity (hours): Follow-up: Econ. | Total burden per activity (hours): Follow-up: Samp.
Read Instructions | .25 | 5 4 4 | 0 | 0
Gather Information/Data | .25 | 11 8 7 | 2 | 2
Complete Survey Form | .25 | 8 7 7 | 0 | 0
Review Survey Responses | .25 | 7 7 5 | 0 | 1
All Activities | 1 | 31 26 23 | 2 | 3
¹ EPA prepared three burden estimates depending upon the type of respondent and whether the respondent availed himself or herself of some options to lessen the burden.

Table 2.—Collection of Aquatic Animal Production Facilities Data
Total number of responses | Average burden per respondent (in hours) | Total burden (in hours) | Average labor costs per respondent (in dollars) | Total labor costs (in dollars) | Average O&M costs per respondent (in dollars) | Total O&M cost (in dollars) | Total costs (in dollars)
Screener Survey, Total Respondent Burden and Costs
5,000 | 1 | 5,000 | 21 | 105,000 | 0.84 | 4,200 | 109,200
Detailed Survey, Total Respondent Burden and Costs
315 | 31 | 9,765 | 762 | 240,030 | 15 | 4,725 | 244,755
315 | 26 | 8,190 | 579 | 182,385 | 15 | 4,725 | 187,110
70 | 23 | 1,610 | 517 | 36,190 | 15 | 1,050 | 37,240
Follow-up Activities, Total Respondent Burden Costs
100 | 2 | 200 | 50 | $5,000 | $10.50 | 1,050 | 6,050
25 | 3 | 75 | 67 | 1,675 | 9.50 | 238 | 1,913

EPA has identified approximately 5,000 facilities as potential aquatic animal producers. EPA will distribute the screener survey to all of the facilities identified, the detailed survey to a stratified random sample of about 500 to 700 facilities, and the follow-up to 125 facilities (this includes 25 for sampling data and 100 for economic data). The estimated cost to complete the screener survey is approximately $21 per site. The estimated cost to complete the detailed survey is approximately $517 to $762 per site (depending on the type of respondent). The estimated cost for the follow-up activities is approximately $50 to $67 per site. The estimated total industry cost for the information collection burden is $0.6 million.

Send comments on the Agency's need for this information, the accuracy of the provided burden estimates, and any suggested methods for minimizing respondent burden including through the use of automated collection techniques to the addresses listed above. Please refer to EPA ICR No. 1988.01 in any correspondence.

Dated: May 21, 2001.
Oscar Morales,
Director, Collection Strategies Division.

[FR Doc. 01-14480 Filed 6-7-01; 8:45 am]

BILLING CODE 6560-50-U